DEPARTMENT OF TRANSPORTATION

Research and Special Programs Administration

Office of Hazardous Materials Safety; Notice of Application for Modification of Exemption

AGENCY: Research and Special Programs Administration, DOT.

ACTION: List of Applications for Modification of Exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, the are not repeated here. Request of modifications of exemptions (e.g. to provide for additional hazardous materials, packaging design changes, additional mode of transportation, etc.) are described in footnotes to the application number. Application numbers with the suffix “M” demote a modification request. There applications have been separated from the new application for exemption to facilitate processing.

DATES: Comments must be received on or before May 14, 2004.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington DC or at http://dms.dot.gov.

This notice of receipt of applications for modification of exemption is published in accordance with part 107 of the Federal hazardous materials transportation law (49 U.S.C. 5117(b); 49 CFR 1.53(b)).

Issued in Washington, DC, on April 22, 2004.
R. Ryan Posten,
Exemptions Program Officer, Office of Hazardous Materials Exemptions & Approvals.

Modification Exemptions
Application No. | Docket No. | Applicant | Regulation(s) affected | Modification of exemption | Nature of exemption thereof
8178-M |  | National Aeronautics and Space Administration, Houston, TX | 49 CFR 173.302(a); 173.301(f); 175.3 | 8178 | To modify the exemption to authorize the use of alternative CRES 301 stainless steel cylinders and extending the service life of the steel cylinders to 32 years from date of manufacture for the transportation of Division 2.2 materials.
10751-M |  | Dyno Nobel, Inc., Salt Lake City, UT | 49 CFR 177.848; 177.823; 177.835(c)(3) |  | To modify the exemption to authorize in increased capacity of the aluminum chassis-mounted saddle fuel tank from 150 to 300 gallons.
1149-M |  | ARC Automotive, Inc., (formerly Atlantic Research Corporation), Knoxville, TN | 49 CFR 173.301(h); 173.302; 173.306(d)(3) | 11494 | To modify the exemption to authorize an increase in maximum service pressure from 4,000 psig to 8,000 psig of the non-DOT specification cylinders.
12065-M | RSPA-98-3831 | International Flavors and Fragrances, Inc., Shrewsbury, NJ | 49 CFR 173.120(c)(ii) | 12065 | To modify the exemption to authorize the transportation of additional Class 3 materials with flash points determined by the Grabner MiniFlash Flashpoint Analyzer.
12561-M | RSPA-00-8305 | Rhodia Inc., Cranbury, NJ | 49 CFR 172.203(a); 173.24b; 179.13 | 12561 | To modify the exemption to authorize the use of 100 additional the use of 100 additional DOT Specification tank cars having a maximum gross weight on rail of 286,000
13310-M |  | Amvac Chemical Corporation, Los Angeles, CA | 49 CFR 178.3; 178.503 | 13310 | To reissue the exemption originally issued on an emergency basis for the transportation of certain UN standard bags that were incorrectly printed with a specification marking that does not include the “UN” symbol.
13350-M |  | The Boeing Company, Cape Canaveral, FL | 49 CFR 173.201 | 13350 | To reissue the exemption originally issued on an emergency basis for the transportation of four Space Shuttle Orbiter Auxiliary Power Units containing the residue of a Class 8 material.
13355-M | RSPA-04-17039 | C L Smith Co., Saint Louis, MO | 49 CFR 173.13(a); 173.13(b); 173.13(c)(1)(ii); 173.13(c)(1)(iv); 173.13(c)(2)(iii); | 13355 | To reissue the exemption originally issued on an emergency basis for the use of specially designed combination packagings for the transportation of various hazardous materials without hazard labels or placards.

[FR Doc. 04-9557 Filed 4-28-04; 8:45 am]

BILLING CODE 4909-60-M